DEPARTMENT OF ENERGY

[Docket Nos. EA-282]

Application To Export Electric Energy; Xcel Energy Inc., d/b/a Northern States Power Company

AGENCY: Office of Fossil Energy, DOE.

ACTION: Notice of application.

SUMMARY: Excel Energy Inc., doing business as Northern States Power Company (NSP), has applied to export electric energy from the United States to Canada, pursuant to section 202(e) of the Federal Power Act.

DATES: Comments, protests or requests to intervene must be submitted on or before August 11, 2003.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16 U.S.C. 824a(e)).

On June 23, 2003 Excel Energy Inc., doing business as NSP, applied to the Office of Fossil Energy, of the Department of Energy (DOE) for authority to export electric energy from the United States to Canada. NSP is a Minnesota corporation with its principal place of business in Minneapolis, Minnesota. NSP is an investor-owned utility and a wholly-owned subsidiary of Xcel Energy, Inc., and is engaged in the generation, distribution and sale of electric energy. NSP controls electric power generations and transmission facilities in the States of North Dakota, South Dakota, Minnesota, Wisconsin and Michigan. As a Regulated Utility, NSP produces and distributes electric power and conducts wholesale purchases and sales of capacity and energy.

In FE Docket No. EA-282, NSP proposes to export electric energy that is in excess of the amounts required to meet its native load obligations or that is purchased from generators, power marketers or federal power marketing agencies. NSP will arrange for the delivery of those exports to Canada over the international transmission facilities owned by Basin Electric Power Cooperative, Bonneville Power Administration, Citizens Utilities, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company and Vermont Electric Transmission Company. NSP will purchase the power to be exported from electric utilities and federal power marketing agencies as defined in the FPA.

The construction of each of the international transmission facilities to be utilized by NSP has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the NSP application to export electric energy to Canada should be clearly marked with Docket EA-282. Additional copies are to be filed directly with Xcel Energy, Inc. for Northern States Power Company, 1099 18th Street, Suite 3000, Denver, CO 80202, ATTN: Director, Contract Administration.

A final decision will be made on this application after the environmental impact has been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Electricity Regulation,” and then “Pending Proceedings” from the options menus.

Issued in Washington, DC, on July 7, 2003.
Anthony Como,
Deputy Director, Electric Power Regulation, Office of Coal & Power Import/Export, Office of Coal & Power Systems, Office of Fossil Energy.

[FR Doc. 03-17593 Filed 7-10-03; 8:45 am]

BILLING CODE 6450-01-P